DEPARTMENT OF TRANSPORTATION

Federal Aviation Administration

14 CFR Part 71

[Docket No. FA-2004-17163; Airspace Docket No. 04-AGL-10]

Proposed Modification of Class D Airspace; Rochester, MN; Proposed Modification of Class E Airspace; Rochester, MN; Correction

AGENCY: Federal Aviation Administration (FAA), DOT.

ACTION: Notice of proposed rulemaking; correction.

SUMMARY: This action corrects the legal description contained in a NPRM that was published in the Federal Register on Wednesday, April 21, 2004 (69 FR 421448). The NPRM proposed to modify Class D airspace, and Class E airspace, at Rochester, MN.

FOR FURTHER INFORMATION CONTACT: Patricia A. Graham, Air Traffic Division, Airspace Branch, AGL-520, Federal Aviation Administration, 2300 East Devon Avenue, Des Plaines, IL 60018, telephone: (847) 294-7477.

SUPPLEMENTARY INFORMATION:

History

Federal Register Document 04-9076 published on Wednesday, April 21, 2004 (69 FR 21448), proposed to modify Class D airspace, and Class E airspace, at Rochester, MN. St. Cloud Regional Airport was incorrectly used in the legal description. This action corrects this error.

Accordingly, pursuant to the authority delegated to me, the legal description for the Class D airspace, and Class E airspace areas for Rochester, MN, as published in the Federal Register Wednesday, April 21, 2004 (69 FR 21448), (FR Doc. 04-9076), is corrected as follows:

§ 71.1 [Corrected]

1. On page 21449, column 2, under the sentence “Paragraph 6002 Class E airspace designated as surface areas”, correct the legal description to read:

AGL MN E2 Rochester, MN [Revised]

Rochester International Airport, MN

(Lat. 43°54′26″N., long. 92°29′56″W.)

Rochester VOR/DME

(Lat. 43°46′58″N., long. 92°35′49″W.)

Within a 4.3-mile radius of the Rochester International Airport, and within 3.1 miles each side of the Rochester VOR/DME 028° radial, extending the 4.3-mile radius to 7 miles southwest of the airport. This Class E airspace area is effective during the specific dates and times established by a Notice to Airmen. The effective date and time will thereafter be continuosly published in the Airport/Facility Directory.

2. On page 21449, column 2, eliminated the sentence “Paragraph 6004 Class E airspace designated as an extension to a class D or Class E surface area”, and the subsequent E4 legal description for St. Cloud, MN.

* * * * *

Issued in Des Plaines, Illinois, on May 19, 2004.
Nancy B. Shelton,
Manager, Air Traffic Division, Great Lakes Region.

[FR Doc. 04-12980 Filed 6-8-04; 8:45 am]

BILLING CODE 4910-13-M